DEPARTMENT OF COMMERCE

Foreign-Trade Zones Board

[Order No. 1948]

Reorganization of Foreign-Trade Zone 160 Under Alternative Site Framework; Anchorage, Alaska

Pursuant to its authority under the Foreign-Trade Zones Act of June 18, 1934, as amended (19 U.S.C. 81a-81u), the Foreign-Trade Zones Board (the Board) adopts the following Order:

Whereas, the Board adopted the alternative site framework (ASF) (15 CFR 400.2(c)) as an option for the establishment or reorganization of zones;

Whereas, the Municipality of Anchorage, grantee of Foreign-Trade Zone 160, submitted an application to the Board (FTZ Docket B-87-2013, docketed September 19, 2013) for authority to reorganize under the ASF with a service area of the Municipality of Anchorage, within and adjacent to the Anchorage U.S. Customs and Border Protection port of entry, and FTZ 160's existing Sites 1 through 7 would be categorized as magnet sites;

Whereas, notice inviting public comment was given in the Federal Register (78 FR 59914-59915, September 30, 2013) and the application has been processed pursuant to the FTZ Act and the Board's regulations; and,

Whereas, the Board adopts the findings and recommendations of the examiner's report, and finds that the requirements of the FTZ Act and the Board's regulations are satisfied;

Now, therefore, the Board hereby orders:

The application to reorganize FTZ 160 under the ASF is approved, subject to the FTZ Act and the Board's regulations, including Section 400.13, to the Board's standard 2,000-acre activation limit for the zone, and to a five-year ASF sunset provision for magnet sites that would terminate authority for Sites 2 through 7 if not activated by 08/31/2019.

Signed at Washington, DC, this 29th day of August 2014.
Paul Piquado,
Assistant Secretary of Commerce for Enforcement and Compliance Alternate Chairman, Foreign-Trade Zones Board.
Attest:
Andrew McGilvray,
Executive Secretary.

[FR Doc. 2014-21470 Filed 9-8-14; 8:45 am]

BILLING CODE 3510-DS-P